DEPARTMENT OF THE INTERIOR

Bureau of Land Management

[MTM 93636]

Notice of Proposed Withdrawal and Opportunity for Public Meeting; MT

AGENCY: Bureau of Land Management, Interior

ACTION: Notice.

SUMMARY: The U.S. Department of Agriculture, Forest Service, proposes to withdraw 170.00 acres of National Forest System land to protect the Big Ice Cave and its subterranean water supply. The land was previously withdrawn by Public Land Order No. 6119 which has expired. Protection is still needed for this unique geologic and hydrologic formation and its important cultural and recreational values. This notice segregates the land for up to 2 years from location or entry under the United States mining laws. The land will remain open to all other uses which may by law be made of National Forest System land.

DATES: Comments and requests for a public meeting must be received by September 23, 2002.

ADDRESSES: Comments and meeting requests should be sent to the Forest Supervisor, Custer National Forest, P.O. Box 50760, Billing, Montana 59105.

FOR FURTHER INFORMATION CONTACT: Susan Newell, Custer National Forest, P.O. Box 50760, Billings, Montana 59105, 406-657-6200, extension 225, or Sandy Ward, BLM Montana State Office, 406-896-5052.

SUPPLEMENTARY INFORMATION: The Forest Service proposes to withdraw the following described National Forest System land from location or entry under the United States mining laws, subject to valid existing rights:

Custer National Forest

Principal Meridian, Montana

Unsurveyed, but which probably will be when surveyed:

T.8 S., R. 27 E.,

Sec. 3, SE¼

Sec. 10, N½N½NW¼NE¼.

The area described contains 170.00 acres in Carbon Country.

For a period of 30 days from the date of publication of this notice, all persons who wish to submit comments, suggestions, or objections in connection with the proposed extension may present their views in writing to the Forest Supervisor, Custer National Forest.

Notice is hereby given that an opportunity for a public meeting is afforded in connection with this proposed extension. All interested persons who desire a public meeting for the purpose of being heard on the proposal must submit a written request, by the date specified above, to the Forest Supervisor, Custer National Forest. If the authorized officer determines that a public meeting will be held, a notice of the time and place will be published in the Federal Register at least 30 days prior to the scheduled date of the meeting.

The application will be processed in accordance with the regulations set forth in 43 CFR part 2300.

For a period of 2 years from the date of publication of this notice in the Federal Register, the land will be segregated as specified above unless the application is denied or canceled or the withdrawal is approved prior to that date.

Dated: March 8, 2002.
Thomas P. Lonnie,
Deputy State Director, Division of Resources.

[FR Doc. 02-21393 Filed 8-21-02; 8:45 am]

BILLING CODE 3410-11-M